DEPARTMENT OF TRANSPORTATION

Maritime Administration

[USCG-2007-28532]

Port Dolphin Energy LLC, Port Dolphin Energy Liquefied Natural Gas Deepwater Port License Application; Final Environmental Impact Statement

AGENCY: Maritime Administration, DOT.

ACTION: Notice of availability; Correction.

SUMMARY: The Coast Guard and the Maritime Administration (MARAD) announce the availability of material supplementing the Final Environmental Impact Statement (FEIS) for the Port Dolphin Energy Liquefied Natural Gas Deepwater Port license application. The supplementary material corrects errors in the FEIS.

DATES: To allow sufficient time for public review and comment on this supplemental material we are extending the public comment period until September 11, 2009. All other scheduled dates remain unchanged. The Federal and State Agency and Governor comment periods also end September 11, 2009 and the MARAD Record of Decision is due by October 26, 2009.

FOR FURTHER INFORMATION CONTACT: Ray Martin, U.S. Coast Guard, telephone: 202-372-1449, e-mail: raymond.w.martin@uscg.mil or Chris Hanan, U.S. Maritime Administration, telephone: 202-366-1900, e-mail: Christopher.Hanan@dot.gov. If you have questions on viewing the docket, call Renee V. Wright, Program Manager, Docket Operations, telephone 202-493-0402.

(Authority 49 CFR 1.66)

SUPPLEMENTARY INFORMATION:

On July 13, 2009, the Coast Guard and MARAD notice of availability for the Port Dolphin Energy Liquefied Natural Gas Deepwater Port license application FEIS appeared in the Federal Register (74 FR 33509). Subsequently, we discovered several typographical errors and errors related to the analysis of sand resources in the Executive Summary and Sections 3, 4, and 6 of the FEIS. The most significant of these errors was a mathematical unit conversion error that resulted in the volumes of sand reported in the FEIS being nine times the actual estimated values.

The corrections to the FEIS appear in this notice which, along with the FEIS itself, is available for viewing at the Federal Docket Management System Web site: http://www.regulations.gov under docket number USCG-2007-28532. You may also view these materials in person at Department of Transportation, Docket Management Facility, West Building, Ground Floor, Room W12-140, 1200 New Jersey Avenue, SE., Washington, DC 20590-0001 between 9 a.m. and 5 p.m., Monday through Friday, except Federal holidays. The Facility telephone number is 202-366-9329.

The following corrections to the FEIS apply:

Page ES-7, Table ES-1

Delete: Table ES-1

Replace with: the following table:

Table ES-1—Comparison of Location and Pipeline Alternatives for Port Dolphin
Project component | Proposed site and pipeline alternative | Southern site and pipeline alternative | Offshore interconnection with gulfstream pipeline
Port Components
| Port C/O footprint | 22 acres | 30 acres (+36%) | 22 acres
Pipeline Components
Total pipeline length | 74.0 km (46 mi) | 80.4 km (50 mi) (+9%) | 28.8 km (18 mi) (−38%)
Offshore length (from the piggable Y to the bulkhead) | 67.6 km (42 mi) | 74 km (46 mi) (+9.5%) | N/A
Offshore pipeline construction footprint (3,000-foot construction survey corridor) | 16,728 acres | 18,180 acres (+ 9%) | 6,545 acres (−39%)
Offshore Gulfstream Pipeline crossing | Crosses two times. HDD 1=1,335 feet, HDD 2=2,947 feet | N/A | N/A
Permitted Sand Borrow Area IX | 0 cubic yards | 248,581 cubic yards | 0 cubic yards
ROSS Areas | 5,374,463 cubic yards | 7,069,055 cubic yards | 0 cubic yards
Offshore shipping channel crossings | none | None | none
Nearshore Terra Ceia crossing | none | Crosses two times: 4.8 km (3.0 mi), and 1.1 km (0.7 mi) | none
Onshore pipeline length | 6.4 km (4 mi) | 6.4 km (4 mi) | 6.4 km (4 mi)
Onshore pipeline C footprint (100-foot ROW) | 48.5 acres | 48.5 acres | 48.5 acres
Onshore O footprint (30-foot ROW) | 14.5 acres | 14.5 acres | 14.5 acres
Onshore wetland crossings C impacts | 10.71 acres | 10.71 acres | 10.71 acres
Onshore wetland crossings O impacts | 1.19 acres | 1.19 acres | 1.19 acres
Onshore Facility and Workspace Components
Onshore landfall location | Just east of Gulfstream station at Port Manatee | Just east of Gulfstream station at Port Manatee | N/A
Aboveground facilities | Interconnection with GS and TECO—120 × 1,319 feet (3.4 acres) Valve station located on Port Manatee property—50 × 60 feet (0.07 acres) | Interconnection with GS and TECO—120 × 1,319 feet (3.4 acres) Valve station located on Port Manatee property—50 × 60 feet (0.07 acres) | Interconnection with GS offshore
Onshore extra work spaces (located at the entrance and exit areas for HDD and boring activities) | 6 acres | 6 acres | 6 acres
Staging areas, pipeyard, and contractor facilities would be located on Port Manatee (6 months) | 34 acres; includes a concrete batch plant, mattress facility and pipe lay-down areas | 34 acres; includes a concrete batch plant, mattress facility, and pipe lay-down areas | 34 acres; includes a concrete batch plant, mattress facility, and pipe lay-down areas
Onshore access roads | None (use existing roadways) | None (use existing roadways) | N/A
Notes:
C—Construction; O—Operation
Length and acreage have been rounded to nearest whole number for NEPA planning purposes

Page 3-77, Geological Resources

Delete: The survey information provided by the Town of Longboat Key identified approximately 25 additional areas with potential as future sand borrow areas. These areas have not been fully investigated, and therefore cannot be confirmed to contain beach quality sand resources. These areas include a total of approximately 125,000 acres.

Replace with: The survey information provided by the Town of Longboat Key identified approximately 25 additional areas with potential as future sand borrow areas. These areas have not been fully investigated, and therefore cannot be confirmed to contain beach quality sand resources. These areas include a total of approximately 128,000 acres.

Page 4-157, Geological Resources

Delete: The Proposed Pipeline Route passes through potential areas identified by Longboat Key, including the area identified in Federal waters as F-2, in their May 28, 2008, comments for a distance of 3.9 km (2.4 mi), and through the ROSS area for a distance of approximately 25.3 km (15.7 mi). These lengths were used to calculate the volumes in Table 4.4-1.

Replace with: The Proposed Pipeline Route passes through potential areas identified by Longboat Key, including the area identified in Federal waters as F-2, in their May 29, 2008 and May 28, 2009 comments. Based on GIS mapping calculations, the Proposed pipeline would pass through potential areas identified by Longboat Key for a distance of 3.9 km (2.4 mi), and through the ROSS area for a distance of approximately 11.5 km (7.2 mi). These lengths were used to calculate the volumes in Table 4.4-1.

Delete: Table 4.4-1

Replace with: the following table:

Table 4.4-1—Impacts on Potential Sand Borrow Areas
| Size of area (acres) | Volume of area (cubic yards): 3.75-foot average depth | Volume of area (cubic yards): 9.5-foot average depth | Length of pipeline through impacted area (feet) | Volume of impacted area (cubic yards): 3.75-foot average depth | Volume of impacted area (cubic yards): 9.5-foot average depth | Percentage of potential volume impacted
Borrow Area IX | 264 | 1,597,200 | 4,046,240 | 0 | 0 | 0 | 0.00
High-Volume Sand Shoal | 4,500 | 27,225,000 | 68,970,000 | 0 | 0 | 0 | 0.00
Longboat Key Potential Areas | 128,000 | 774,400,000 | 1,961,813,333 | 12,858 | 714,323 | 1,809,617 | 0.09
ROSS Area | 538,000 | 3,254,900,000 | 8,245,746,667 | 38,187 | 2,121,499 | 5,374,463 | 0.07

Delete: In 2006, Longboat Key used approximately 1,360,000 m³ (1,790,000 y³) of sand resources for their beach renourishment project. Assuming Longboat Key's next major beach renourishment project requires a similar amount of sand the proposed pipeline route would result in a loss of beach quality sand from the Longboat Key-identified potential sand resource areas equivalent to 2 to 5.5 beach renourishment projects. The loss of sand resulting from the proposed pipeline obstruction on ROSS-identified resources would result in the loss of 10.6 to 27.0 beach renourishment projects. No loss of beach quality sand within Borrow Area IX or the High Volume Sand Shoal is anticipated to occur.

Replace with: In 2006, Longboat Key used approximately 1,360,000 m³ (1,790,000 y³) of sand resources for their beach renourishment project. Assuming Longboat Key's next major beach renourishment project requires a similar amount of sand, the proposed pipeline route would result in a loss of sand from the Longboat Key-identified potential sand resource areas equivalent to 0.4 to 1 beach renourishment projects. The loss of sand resulting from the proposed pipeline obstruction on ROSS-identified resources would result in the loss of 1.2 to 3 beach renourishment projects. No loss of beach-quality sand within Borrow Area IX or the High-Volume Sand Shoal is anticipated to occur.

Page 4-160, Geological Resources

Delete: Table 4.4-2

Replace with: the following table:

Table 4.4-2—Impacts on Potential Sand Borrow Areas along the Southern Site and Route Alternative
| Size of area (acres) | Volume of area (cubic yards): 3.75-foot average depth | Volume of area (cubic yards): 9.5-foot average depth | Length of pipeline through impacted area (feet) | Volume of impacted area (cubic yards): 3.75-foot average depth | Volume of impacted area (cubic yards): 9.5-foot average depth | Percentage of potential volume impacted
Borrow Area IX | 264 | 1,597,200 | 4,046,240 | 1,766 | 98,124 | 248,581 | 6.14
High-Volume Sand Shoal | 4,500 | 27,225,000 | 68,970,000 | 12,302 | 683,448 | 1,731,402 | 2.51
Longboat Key Potential Areas | 128,000 | 774,400,000 | 1,961,813,333 | 24,046 | 1,335,889 | 3,384,251 | 0.17
ROSS Area | 538,000 | 3,254,900,000 | 8,245,746,667 | 50,227 | 2,790,416 | 7,069,055 | 0.09

Page 4-161, Geological Resources

Delete: Assuming Longboat Key's next major beach renourishment project requires a similar amount of sand the southern pipeline route would result in a loss of beach quality sand from Borrow Area IX equivalent to 0.5 to 1.2 renourishment projects. The loss of beach quality sand resulting from the proposed pipeline obstruction on ROSS-identified resources would result in sand loss equivalent to 14.0 to 35.5 beach renourishment projects.

Replace with: Assuming Longboat Key's next major beach renourishment project requires a similar amount of sand, the southern pipeline route would result in a loss of beach-quality sand from Borrow Area IX equivalent to 0.05 to 0.14 beach renourishment projects. The loss of sand resulting from the proposed pipeline obstruction on ROSS-identified resources would result in sand loss equivalent to 1.6 to 3.9 beach renourishment projects.

Page 4-170, Marine Areas and Land Use

Delete: The total construction footprint for this alternative is estimated to be 9,323 acres, or 9 percent less than the proposed alternative. For impacts on sand resource areas, assuming a 400-m (1,312-foot) buffer centered on the pipeline, a total of 103 acres of the available area would be restricted for use in beach renourishment.

Replace with: The total construction footprint for this alternative is estimated to be 9,323 acres, or 9 percent more than the proposed alternative. For impacts on sand resource areas see Table 4.4-2.

Page 4-215, Socioeconomic Resources and Environmental Justice

Delete: The sand resource locations and quantities of sand that would be inaccessible after construction of the pipeline are minimal and alternative resources exist nearby (see Section 4.1.1).

Replace with: The sand resource locations and quantities of sand that would be inaccessible after construction of the pipeline are minimal and alternative resources exist nearby (see Figure 2.1-18).

Page 4-243, BMPs, Mitigation and Minimization Measures, and Monitoring

Delete: The Maritime Administration agrees that mitigation and monitoring of egg and fish mortality should be required to demonstrate impacts consistent with those analyzed in the EIS. Further details of this effort, including the duration of monitoring, would be developed in coordination with NOAA and USEPA as part of a detailed monitoring and mitigation plan being developed by the Maritime Administration. Onsite sampling for ichthyoplankton, lobster, and shrimp densities should include three years of data prior to the start of operations. If a license is issued, Port Dolphin Energy LLC would be required to conduct site-specific, year-round surveying to collect data on existing fish and invertebrate ichthyoplankton populations. Data collection shall begin as soon as the license is issued, and continue for a minimum of 3 years. Furthermore, one year of data collection must be completed prior to the start of operations, one of which must be completed prior to the start of operations.

Replace with: The Maritime Administration agrees that mitigation and monitoring of egg and fish mortality should be required to demonstrate impacts consistent with those analyzed in the EIS. Further details of this effort would be developed in coordination with NOAA and USEPA as part of a detailed monitoring and mitigation plan being developed by the Maritime Administration. If a license is issued, Port Dolphin Energy LLC would be required to conduct site-specific, year-round surveying to collect data on existing fish and invertebrate ichthyoplankton populations. Data collection shall begin as soon as the license is issued, and continue for a minimum of three years. Furthermore, one year of data collection must be completed prior to the start of operations.

Page 6-31, Geological Resources

Delete: The proposed pipeline would pass through two potential sand sources identified by the Town of Longboat Key

for a distance of approximately 2.26 km (1.4 mi). In addition, the proposed pipeline would pass through approximately 11.64 km (7.23 mi) of ROSS-identified potential sand source area. Based on analysis conducted in Sections 3.4.3 and 4.4.1, the proposed pipeline route including the 200-foot buffer on each side of the pipeline would restrict approximately 383 acres (155 hectares) for use in beach nourishment. This area comprises 0.06 percent of the 615,464 acres of the Long Boat Key, ROSS, High Volume Sand Shoal, and Borrow Area IX mapped potential sand resource areas.

Replace with: The Proposed Pipeline Route passes through potential areas identified by Longboat Key, including the area identified in Federal waters as F-2, in their May 29, 2008 and May 28, 2009 comments. Based on GIS mapping calculations, the Proposed pipeline would pass through potential areas identified by Longboat Key for a distance of 3.9 km (2.4 mi), and through the ROSS area for a distance of approximately 11.5 km (7.2 mi). These lengths were used to calculate the volumes in Table 4.4-1.

Dated: August 18, 2009.
By Order of the Maritime Administrator.
Murray A. Bloom,
Acting Secretary, Maritime Administration.

[FR Doc. E9-20145 Filed 8-20-09; 8:45 am]

BILLING CODE 4910-81-P